DEPARTMENT OF TRANSPORTATION

National Highway Traffic Safety Administration

[Docket No. NHTSA-2016-0137; Notice 2]

Arconic Wheel and Transportation Products, Grant of Petition for Decision of Inconsequential Noncompliance

AGENCY: National Highway Traffic Safety Administration (NHTSA), Department of Transportation (DOT).

ACTION: Grant of petition.

SUMMARY: Arconic Wheel and Transportation Products, a business division of Arconic, Inc., formerly known as Alcoa, Inc. (Arconic), has determined that certain Alcoa aluminum wheels do not fully comply with Federal Motor Vehicle Safety Standard (FMVSS) No. 120, Tire Selection and Rims and Motor Home/Recreation Vehicle Trailer Load Carrying Capacity Information for Motor Vehicles with a GVWR of more than 4,536 kilograms (10,000 pounds). Alcoa, Inc. filed a noncompliance information report dated November 21, 2016. Arconic then petitioned NHTSA on December 5, 2016, for a decision that the subject noncompliance is inconsequential as it relates to motor vehicle safety.

ADDRESSES: For further information on this decision please contact Kerrin Bressant, Office of Vehicle Safety Compliance, the National Highway Traffic Safety Administration (NHTSA), telephone (202) 366-1110.

SUPPLEMENTARY INFORMATION: I. Overview: Arconic Wheel and Transportation Products (Arconic), has determined that certain Alcoa aluminum wheels do not fully comply with paragraph S5.2(b) of Federal Motor Vehicle Safety Standard (FMVSS) No. 120, Tire Selection and Rims and Motor Home/Recreation Vehicle Trailer Load Carrying Capacity Information for Motor Vehicles with a GVWR of more than 4,536 kilograms (10,000 pounds). Alcoa, Inc. filed a noncompliance information report dated November 21, 2016, pursuant to 49 CFR part 573, Defect and Noncompliance Responsibility and Reports. Arconic then petitioned NHTSA on December 5, 2016, pursuant to 49 U.S.C. 30118(d) and 30120(h) and 49 CFR part 556, for an exemption from the notification and remedy requirements of 49 U.S.C. Chapter 301 on the basis that this noncompliance is inconsequential as it relates to motor vehicle safety.

The notice of receipt of Arconic's petition was published, with a 30-day public comment period, on June 5, 2017 in the Federal Register (82 FR 25908). No comments were received. To view the petition and all supporting documents log onto the Federal Docket Management System (FDMS) Web site at: http://www.regulations.gov/. Then follow the online search instructions to locate docket number “NHTSA-2016-0137.”

II. Equipment Involved: Approximately 1,975 Alcoa model 88367X aluminum wheels, size 22.5″ Dia. × 8.25″, produced for the heavy duty truck wheel market, manufactured between August 1, 2016, and November 7, 2016, are potentially involved.

III. Noncompliance: Arconic explains that the noncompliance is that the wheel diameter was incorrectly marked on the subject wheels as 24.5″ × 8.25″, when it should have been marked as 22.5″ × 8.25″. This marking error overstates the wheel diameter by 2″. Therefore, the subject wheels do not meet the requirements of paragraph S5.2(b) of FMVSS No. 120.

IV. Rule Text: Paragraph S5.2(b) of FMVSS No. 120 states in pertinent part:

S5.2 Rim marking. Each rim or, at the option of the manufacturer in the case of a single-piece wheel, wheel disc shall be marked with the information listed in paragraphs (a) through (e) of this paragraph, in lettering not less than 3 millimeters high, impressed to a depth or, at the option of the manufacturer, embossed to a height of not less than 0.125 millimeters . . .

(b) The rim size designation, and in case of multipiece rims, the rim type designation. For example: 20 × 5.50, or 20 × 5.5.

V. Summary of Arconic's Petition: Arconic described the subject noncompliance and stated its belief that the noncompliance is inconsequential as it relates to motor vehicle safety.

In support of its petition, Arconic submitted the following reasoning:

1. If the mounting technician relied solely on the incorrectly stated 24.5″ diameter stamped on the rim and tried to mount a 24.5″ × 8.25″ tire, the tire will not inflate. Therefore, it would be obvious to the mounting technician that there is a tire/rim mismatch, because the air will immediately escape during inflation and no tire/rim seal will ever be achieved. Heavy-duty truck rim diameter sizes in the U.S. market are in increments 19.5″, 22.5″ and 24.5″, so any tire diameter other than 22.5″ will simply not mount and/or inflate on the mismarked 24.5″ rim.

2. All product literature that accompanies the mislabeled 24.5″ × 8.25″ aluminum wheels correctly identifies the wheel as having a 22.5″ diameter. The part number stamped on the wheels correctly associates the wheels in catalogs (hard copy and electronic) as having a 22.5″ diameter. The vast majority of the affected wheels were sold for assembly on new heavy-duty semi-tractors and it is believed the certification label, tire pressure placard and all other literature accompanying the vehicle correctly states the required wheel diameter as 22.5″.

3. The vast majority of the affected wheels were sold for assembly on new heavy-duty semi-tractors, which means the selection of tires and wheels during assembly does not require reliance on the actual size markings on the wheel. Rather, this selection is based upon part number matching during the tire/wheel subassembly process, and the part number descriptions correctly reflect the actual wheel size of 22.5″ × 8.25″. Only one manufacturer, a trailer manufacturer, actually noticed the mismarking of the rim diameter. The remaining manufacturers that undertook tire and rim assembly were unaffected by rim mismarking.

4. If a vehicle owner or operator must replace one of the affected rims they would most likely go to a facility that is familiar with tire/wheel replacements for heavy-duty trucks. Pursuant to 29 CFR 1910.177(c) (Employee Training), federal regulations require that only trained technicians are permitted to mount tires and wheels on heavy-duty vehicles and it should be obvious to the technician when a wheel marking is overstated by 2″.

5. For rims that have an obvious incorrect size marking stamped into the wheel, the technician will have to rely on another source for the correct rim size including, when applicable, the certification label, tire pressure placard or any other literature to determine the correct wheel and tire size for the replacement.

6. Because a tire/rim seal cannot be achieved with an overstated 2″ rim diameter, there is no risk to the technician during attempted tire mounting operations.

7. All other roll stamp rim marking information on the subject rims required by S5.2 of FMVSS No. 120 is correct. The rim is marked with the correct rim width, manufacturer, date of manufacture, and DOT.

8. The agency has previously found to be inconsequential a noncompliance with the rim marking requirements of FMVSS No. 110 Tire selection and rims and motor home/recreation vehicle trailer load carrying capacity information for motor vehicles with a GVWR of 4,536 kilograms (10,000 pounds) or less (citing Docket No. NHTSA-1999-6685, July 5, 2000).

9. Arconic is not aware of any crashes or injuries associated with this roll stamp rim marking issue.

Arconic states that they have corrected the roll stamp for all future production.

Arconic concluded by expressing the belief that the subject noncompliance is inconsequential as it relates to motor vehicle safety, and that its petition to be exempted from providing notification of the noncompliance, as required by 49 U.S.C. 30118, and a remedy for the noncompliance, as required by 49 U.S.C. 30120, should be granted.

NHTSA'S Decision

NHTSA's Analysis: The intent of FMVSS No. 120 is to ensure that vehicles are equipped with tires of adequate size and load rating and with rims of appropriate size and type designation to handle vehicle loads and prevent overloading.

As discussed by Arconic, in the event a technician actually used the incorrect rim diameter marking as a size determinant for the tire size to mount on the rim, the technician would inevitably determine that the tire diameter is much larger than the actual rim diameter. In this case, the tire could never be properly mounted to the rim and could not be inflated to hold any air pressure.

Arconic also mentioned that product literature provided with the rims, and correct part number stamped on the rims, can be used to correctly identify the rim diameter. NHTSA agrees that during the mounting process, if a technician were to encounter the mismatch issue as discussed above, the part number labeled on the rim and the product literature could be referenced to aid in the determination of the correct rim size.

Consequently, the subject noncompliance should not cause any unsafe conditions associated with the incorrect rim diameter size stamped on the wheel. Therefore, NHTSA agrees with Arconic that the incorrect rim diameter size listed on the wheel does not have any adverse safety implications.

NHTSA'S Decision: In consideration of the foregoing, NHTSA finds that Arconic has met its burden of persuasion that the subject FMVSS No. 120 noncompliance on the affected wheels is inconsequential to motor vehicle safety. Accordingly, Arconic's petition is hereby granted and Arconic is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject wheels that Arconic no longer controlled at the time it determined that the noncompliance existed. However, the granting of this petition does not relieve equipment distributors and dealers of the prohibitions on the sale, offer for sale, or introduction or delivery for introduction into interstate commerce of the noncompliant wheels under their control after Arconic notified them that the subject noncompliance existed.

Authority: 49 U.S.C. 30118, 30120: delegations of authority at 49 CFR 1.95 and 501.8.

Jeffrey M. Giuseppe,
Director, Office of Vehicle Safety Compliance.

[FR Doc. 2017-22110 Filed 10-11-17; 8:45 am]

BILLING CODE 4910-59-P